DEPARTMENT OF AGRICULTURE

Forest Service

Information Collection; Urban Forest in Atlanta, GA

AGENCY: Forest Service, USDA.

ACTION: Notice; request for comment.

SUMMARY: In accordance with the Paperwork Reduction Act of 1995, the Forest Service is seeking comments from all interested individuals and organizations on a renewal of the information collection, Environmental Justice and the Urban Forest in Atlanta, GA.

DATES: Comments must be received in writing on or before December 11, 2017 to be assured of consideration. Comments received after that date will be considered to the extent practicable.

ADDRESSES: Comments concerning this notice should be addressed to Cassandra Johnson Gaither, Forestry Sciences Lab, 320 Green St., Athens, GA 30602. Comments also may be submitted via facsimile to (706) 559-4266 or by email to: cjohnson09@fs.fed.us.

The public may inspect comments received at Forestry Sciences Lab, 320 Green St., Athens, GA 30602 during normal business hours. Visitors are encouraged to call ahead to (706) 559-4264 to facilitate entry to the building.

FOR FURTHER INFORMATION CONTACT: Cassandra Johnson Gaither, U.S. Forest Service, Southern Research Station, 706-559-4270. Individuals who use telecommunication devices for the deaf (TDD) may call the Federal Relay Service (FRS) at 1-800-877-8339 twenty-four hours a day, every day of the year, including holidays.

SUPPLEMENTARY INFORMATION:

Title: Environmental Justice and the Urban Forest in Atlanta, GA.

OMB Number: 0596-0237.

Expiration Date of Approval:

Type of Request: Renewal.

Abstract: This information collection will gather data on city of Atlanta residents' interest in and engagement with the city's urban forest. The urban forest is defined as trees on both public spaces (e.g., parks) and on private residences. Engagement is defined as people's interest and awareness of city trees, interest in tree maintenance at both the household and community level, and their participation in decisions about whether trees should be maintained. The information collection also gathers data on social stressors such as crime rates, affordable housing, and stormwater management. The data is intended to provide information on the broader context from which people make decisions about engaging with city trees. If people lack basic needs such as access to healthy foods and safe neighborhoods, it's unlikely that they would demonstrate a high degree of engagement with the city's urban forest. Taken together, these data on people's ability to engage with the urban forest and constraints to doing so provide an indication of environmental justice with respect to Atlanta's urban forest. Environmental justice, in its broader sense, has to do with people's physical proximity to both environmental burdens and the access to environmental goods or amenities like urban parks and forests, and tree-lined streets.

This information collection addresses environmental justice from the perspective of urban trees and how this resource may contribute to environmental justice in a given community or neighborhood.

The survey will be conducted face-to-face at the household using electronic devices. Neighborhood residents trained in appropriate data collection techniques will collect the information. Data on city of Atlanta residents' interest in and engagement with city trees will be collected. This includes information about engagement at both the household and community level. For instance, at the household level, questions are asked about the ability and knowledge that people may have about city trees. And at the community level, questions are asked about a community's political strength and how this may affect that community's ability to command tree planting by the city.

Data will be collected from residents in the city of Atlanta. If the information proposed herein is not collected, efforts to understand how urban dwellers in large, southern cities like Atlanta are connected to urban green spaces will be diminished.

Type of Respondents: City of Atlanta residents.

Estimated Annual Number of Respondents: 1900.

Estimated Annual Number of Responses per Respondent: 1 minute.

Estimated Total Annual Burden on Respondents: 212 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 27, 2017.
Felipe Sanchez,
Acting Associate Deputy Chief, Research & Development.

[FR Doc. 2017-21681 Filed 10-6-17; 8:45 am]

BILLING CODE 3411-15-P